DEPARTMENT OF COMMERCE

Foreign-Trade Zones Board

[B-47-2018]

Foreign-Trade Zone (FTZ) 64—Jacksonville, Florida, Authorization of Production Activity, Bacardi USA, Inc. (Kitting of Alcoholic Beverages), Jacksonville, Florida

On July 13, 2018, Bacardi USA, Inc., submitted a notification of proposed production activity to the FTZ Board for its facility within Subzone 64E, in Jacksonville, Florida.

The notification was processed in accordance with the regulations of the FTZ Board (15 CFR part 400), including notice in the Federal Register inviting public comment (83 FR 34825, July 23, 2018). On November 13, 2018, the applicant was notified of the FTZ Board's decision that no further review of the activity is warranted at this time. The production activity described in the notification was authorized, subject to the FTZ Act and the FTZ Board's regulations, including Section 400.14.

Dated: November 13, 2018.
Elizabeth Whiteman,
Acting Executive Secretary.

[FR Doc. 2018-25143 Filed 11-16-18; 8:45 am]

BILLING CODE 3510-DS-P